INTERNATIONAL TRADE COMMISSION

Investigation Nos. 701-TA-402 and 731-TA-892 (Second Review); Honey From Argentina; Termination of Five-Year Reviews

AGENCY: United States International Trade Commission.

ACTION: Notice.

SUMMARY: The subject five-year reviews were instituted in July 2012 to determine whether revocation of the countervailing duty order and antidumping duty order on imports of honey from Argentina would be likely to lead to continuation or recurrence of material injury. On September 21, 2012, the Department of Commerce published notice that it was revoking the orders effective August 2, 2012, because no domestic interested party responded to the sunset review notice of initiation by the applicable deadline (77 FR 58524). Accordingly, pursuant to section 751(c) of the Tariff Act of 1930 (19 U.S.C. 1675(c)), the subject reviews are terminated.

DATES: Effective Date: September 27, 2012.

FOR FURTHER INFORMATION CONTACT: Amy Sherman (202-205-3289), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov).

Authority: These reviews are being terminated under authority of title VII of the Tariff Act of 1930; this notice is published pursuant to section 207.69 of the Commission's rules (19 CFR 207.69).

By order of the Commission.
Issued: October 18, 2012.
Lisa R. Barton,
Acting Secretary to the Commission.

[FR Doc. 2012-26035 Filed 10-22-12; 8:45 am]

BILLING CODE 7020-02-P